DELAWARE RIVER BASIN COMMISSION

Notice of Commission Meeting and Public Hearing

Notice is hereby given that the Delaware River Basin Commission will hold an informal conference followed by a public hearing on Wednesday, June 6, 2001. The hearing will be part of the Commission's regular business meeting. Both the conference session and business meeting are open to the public and will be held at the Commission offices at 25 State Police Drive, West Trenton, New Jersey.

The conference among the Commissioners and staff will begin at 9:30 a.m. Topics of discussion will include a report on the Comprehensive Plan Workshop of the Commission's Watershed Advisory Council; summaries of the PCB Model Expert Panel meeting on May 18, 2001 and the Toxics Advisory Committee meeting of May 31, 2001; a report on recent meetings of the Monitoring Advisory Committee, and an update on the Delaware Estuary Program.

The subjects of the public hearing to be held during the 1:30 p.m. business meeting include, in addition to the dockets listed below, a resolution to adopt the 2001 Water Resources Program.

The dockets scheduled for public hearing are as follows:

1. Borough of Hampton D-74-8 CP Renewal. A ground water withdrawal renewal project to supply up to 6.6 million gallons (mg)/30 days of water to be applicant's public water distribution system from Wells Nos. 1 and 3 in the Kittatinny Formation, and Well No. 4 in the Pre-Cambrian Formation. The applicant requests to retain the total withdrawal limit of all wells at 6.6 mg/30 days. The project is located in Hampton Borough, Hunterdon County, New Jersey.

2. Merrill Creek Owners Group D-77-110 CP (Amendment 13) A resolution to amend Table A (Revised) of Docket No. D-77-110 CP (Amendment 12) to include the addition of the AES Ironwood, L.L.C. facility in South Lebanon Township, Lebanon County, Pennsylvania as a “Designated Unit”. The AES Ironwood, L.L.C. project is a 700 MW independent power project approved via Docket D-97-45 on April 21, 1998, and the project is subject to curtailment unless its consumptive water use during DRBC lower basin drought conditions can be made up by releases from storage. The Merrill Creek reservoir will provide the storage and is located in Harmony Township, Warren County, New Jersey.

3. Philadelphia Suburban Water Company D-90-50 CP Renewal. A ground water withdrawal renewal project is supply up to 92 mg/30 days of water to the applicant's public water distribution system from existing Wells Nos. 1 through 10. Wells Nos. 1 through 6 are completed a dolomite; Wells Nos. 7 through 10 are completed in gneiss. No increase in allocation is proposed. The project wells are located in East Caln, West Whiteland and Upper Uwchlan Townships, Chester County, Pennsylvania. Wells Nos. 3, 4, 5 and 6 are located in the Southeastern Pennsylvania Ground Water Protected Area.

4. Audubon Water Company D-97-43 CP. A ground water withdrawal project to supply up to 9.3 mg/30 days of water to the applicant's distribution system from new Wells Nos. 1 and 2, and to retain the existing withdrawal limit from all wells at 42.0 mg/30 days. The project is located in Lower Providence Township, Montgomery County in the Southeastern Pennsylvania Ground Water Protected Area.

5. City of Gloucester D-2000-20 CP. A project to dredge the Delaware River in Water Quality Zone 4 off Jersey Avenue in Gloucester City, Gloucester County, New Jersey, for the construction of Proprietors Park riverwalk and marina adjacent to the existing riverfront park. The proposed floating dock marina will serve 24 boats up to 24 feet long. A fixed breakwater will be installed to protect the marina from ice and waves generated by passing ships. A 75-foot long T-shaped fishing pier also will be constructed, and the existing 17-space parking lot will be expanded to accommodate 34 vehicles.

6. Binney & Smith, Inc. D-2000-33. A project to increase the combined total withdrawal of groundwater from 14 mg/30 days to 16 mg/30 days to continue to serve the applicant's corporate offices and manufacturing facilities from Wells Nos. 1 and 4 in the Epler Formation. Approximately 98 percent of the water is used for non-contact cooling and will continue to be returned to the groundwater table via existing injection Well No. 2. The project is located in Forks Township, Northampton County, Pennsylvania.

7. Montgomery County Geriatric Center D-2000-40. A ground water withdrawal project to supply up to 1.5 mg/30 days of water to the applicant's residential community water supply system from new Well No. 4 in the Brunswick Formation, and to establish a withdrawal limit from all wells of 80 mg/30 days. The project is located in Upper Providence Township, Montgomery County in the Southeastern Pennsylvania Ground Water Protected Area.

8. Philadelphia Suburban Water Company D-2000-48 CP. A ground water withdrawal project to supply up to 8 mg/30 days of water to the applicant's public water distribution system from new Deer Run Well No. 1 and Grandstaff Wells Nos. 1 and 2 in the Anorthosite Formation, and to retain the withdrawal limit from all wells at 8 mg/30 days. The project is located in Honey Brook Township, Chester County in the Southeastern Pennsylvania Ground Water Protected Area.

9. Redpack Foods, Inc. D-2000-58. A ground water withdrawal project to supply up to 18 mg/30 days of water to the applicant's vegetable processing facility from new Wells Nos. 2 and 6 in the Cohansey Aquifer, and to establish a withdrawal limit from all wells of 18 mg/30 days. The project is located in Lawrence Township, Cumberland County, New Jersey.

10. Citizens Utilities Water Company of Pennsylvania D-2000-71 CP. A project to transfer up to 0.33 million galls per day (mgd) of potable water to the applicant's public water distribution system via the Rose Hills interconnection with the Western Berks Water Authority, which is located near the intersection of Firethorn Lane and State Hill Road in Sinking Spring Borough, Berks County, Pennsylvania. The transfer will enable the applicant to provide an additional source of potable water to continue its service of portions of Lower Heidelberg and Spring Townships, Berks County, Pennsylvania.

11. Upper Bern Township D-2001-2 CP. A project to construct a new 0.055 mgd sewage treatment plant (STP) to serve the Village of Shartlesville area of Upper Bern Township, Berks County, Pennsylvania. The proposed STP will replace failing on-lot disposal systems and provide advanced secondary treatment via sequencing batch reactor and chemical additional processes. Treated effluent will be discharged to Wolf Creek in the Northkill Creek watershed. The project is located approximately 2,000 feet south of the intersection of Interstate 78 (U.S. Route 22) and Wolf Creek as found on the Auburn, PA USGS quad map.

12. University of Delaware D2001-11 CP A ground water withdrawal project to supply up to 3.24 mg/30 days of water to the applicant's boiler/air conditioning system (Central Utility Plant) from new Well CUP, in the Columbia Aquifer. The project well is located in the White Clay Creek watershed in the City of Newark, New Castle County, Delaware.

13. Municipal Authority of the Borough of Orwigsburg D-2001-14 CP. An application to upgrade and expand a contact stabilization sewage treatment plant (STP) from 0.6 mgd to 0.9 mgd to provide high quality secondary treatment of 0.9 mgd via a vertical loop reactor, oxidation ditch process. The project will continue to serve approximately 4,000 residents of Orwigsburg Borough, Schuylkill County, Pennsylvania. The plant is located in North Manheim Township at the northwest corner of the intersection of State Highway 61 and Legislative Route 53011. STP effluent will continue to be discharged to Mahannon Creek in the Schuylkill River watershed.

In addition to the public hearing, the Commission will address the following at its 1:30 p.m. business meeting: minutes of the April 19, 2001 business meeting; announcements; report on hydrologic conditions; reports by the Executive Director and General Counsel; public dialogue; and resolutions (1) extending and modifying Resolution No. 99-23 establishing the Watershed Advisory Council; (2) extending the Commission's contract with RESOLVE, Inc. to provide facilitation services at a July meeting of the Watershed Advisory Council; (3) authorizing the Executive Director to enter into an agreement with the U.S. Army Corps of Engineers to update the basin Daily Flow Model; (4) amending Resolution No. 2000-17 to allow the DRBC to provide in-kind services as partial match for Section 22 funds under the Commission's contract with the U.S. Army Corps of Engineers for a Lehigh River Instream Flow Study; (5) authorizing the Executive Director to enter into an agreement with an independent laboratory for ambient surface water sampling and analysis for conventional pollutants in the non-tidal lower Delaware River over a period of three years; (6) extending the Commission's April 1999 contract with the Northeast-Midwest Institute; and (7) providing for election of the office of Chair, Vice Chair and Second Vice Chair for the Year 2001-2002, commending July 1, 2001.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext 203 or through the New Jersey Relay Service at 1-800-852-7899 (TTY) to discuss how the Commission may accommodate your needs.

Pamela M. Bush,
Commission Secretary and Assistant General Counsel.

[FR Doc. 01-13765 Filed 5-31-01; 8:45 am]

BILLING CODE 6360-01-M